DEPARTMENT OF TRANSPORTATION

National Highway Traffic Safety Administration

[U.S. DOT Docket No. NHTSA-2013-0087]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before November 4, 2013.

ADDRESSES: You may submit comments identified by DOT Docket ID Number NHTSA-2013-0087 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Kristie Johnson, Ph.D., Contracting Officer's Technical Representative, Office of Behavioral Safety Research (NTI-131), National Highway Traffic Safety Administration, 1200 New Jersey Avenue SE., W46-498, Washington, DC 20590. Dr. Johnson's phone number is 202-366-2755 and her email address is kristie.johnson@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title—Evaluation of a New Child Pedestrian Curriculum.

Type of Request—New information collection requirement.

OMB Clearance Number—None.

Form Number—NHTSA Forms 1215, 1216, and 1217.

Requested Expiration Date of Approval—3 years from date of approval.

Summary of the Collection of Information—Several elementary schools who are adopting the Child Pedestrian Curriculum will be recruited to help evaluate the curriculum. Assisting faculty and staff and participating students' parents/caregivers will be surveyed regarding the implementation of a new child pedestrian curriculum. Participating students in grades K-5 will be surveyed regarding their knowledge, behavior, and attitudes about the curriculum. Student assessments are included as part of the curriculum for each of the focused topic lessons and contain age appropriate question and response formats (pictures, easy to read). (The curriculum is available at www.nhtsa.gov/ChildPedestrianSafetyCurriculum.) The student assessments will be administered by the curriculum instructor. Depending on the school system, parental permission for the student to participate may not be necessary because the curriculum is being implemented by the school. If parental permission is required, appropriate informed consent will be obtained. Contact with prospective adult respondents will be conducted through flyers sent home in backpacks and the internet. Faculty/staff and parents/caregivers will be given the choice of completing the surveys online or via a paper version that can be filled out and sent back to school with students. Students would be surveyed at school before and after implementation of the curriculum to assess knowledge, behavior, and attitude changes. NHTSA would seek participation by up to four elementary schools. No personally identifiable information will be collected; all results will be reported in the aggregate.

Description of the Need for the Information and Proposed Use of the Information—The National Highway Traffic Safety Administration (NHTSA) was established by the Highway Safety Act of 1970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs.

As part of its mission, NHTSA proposes to conduct an implementation and impact evaluation of its new child pedestrian curriculum. In 2010, nearly 20% of elementary school-aged children killed in motor vehicle crashes were pedestrians. To help reduce the number of child pedestrians killed or injured, NHTSA developed the new Child Pedestrian Safety Curriculum to teach and encourage safe pedestrian behaviors for students at the elementary school level (grades K-5). The overall goal of the curriculum is to aid elementary age school children in developing age appropriate traffic safety knowledge and practical pedestrian safety skills. NHTSA wants to implement strong and pertinent curricula. It is therefore particularly important for a child pedestrian safety curriculum to be demonstrably successful in reducing the likelihood of harm and/or injury for elementary-aged children.

If approved, the proposed survey would assist NHTSA in evaluating the implementation and impact of the child pedestrian curriculum. The proposed implementation survey would determine the usability and usefulness of the curriculum materials, determine the most appropriate strategies to deliver the curriculum to produce an effect, ascertain any obstacles to implementing the curriculum, and assess instructional strategies and training. The results of the implementation survey would be used to help refine how the curriculum is implemented. The proposed impact survey would assess students' knowledge, self-reported behaviors, and attitudes regarding pedestrian safety and the course materials. The results of the impact evaluation would be used to assess the degree to which the Child Pedestrian Safety Curriculum translates to increasing pedestrian safety, and overall safe behaviors. Overall, the findings would be used to refine the curriculum, to describe the best practices for implementation, and to evaluate behavior changes.

Description of the Likely Respondents (Including Estimated Number, and Proposed Frequency of Response to the Collection of Information)—This proposed effort would involve students completing paper version surveys and faculty/staff and parents/caregivers completing surveys online or via paper versions. Students would be surveyed at school before and after implementation of the curriculum to assess knowledge, behavior, and attitude changes. NHTSA would seek participation by up to four elementary schools, one of which would function as a control school. Approximately 180 students would be trained at each school using the curriculum. In addition to the before and after surveys, students would be assessed after each of the five lessons for a total of 7 surveys—each lasting about 5 minutes. The adult surveys would be conducted with either electronic or paper survey versions. Parents/caregivers would be made aware of the surveys via flyers sent home with their participating child. The parents/caregivers will be furnished with both paper versions of the surveys and internet links to take the surveys. If paper versions are used, they would be sent back to school with the participating child. Parents/caregivers would be surveyed before and after curriculum implementation with each survey lasting about 10 minutes. For faculty/staff assisting with curriculum implementation, the surveys would be distributed at school and the participants would have the option of completing a paper or electronic version of the survey. Faculty/staff would be surveyed before the implementation, after each of the five lessons, and at the conclusion of the effort—for a total of 7 surveys. Each survey would be approximately 15 minutes long. Five faculty/staff members from each of the three target schools would be surveyed. No personally identifiable information would be collected; all results would be reported in the aggregate.

Estimate of the Total Annual Reporting and Record Keeping Burden Resulting from the Collection of Information—NHTSA estimates that students learning the curriculum would average 35 minutes completing assessments, for a total of 315 hours for the surveys/assessments (180 students × 3 schools × 7 assessments × 5 minutes). The parent surveys, with an average duration of 10 minutes, would produce a burden of 180 hours (180 parents × 3 schools × 2 surveys × 10 minutes). The faculty/staff surveys, with an average duration of 15 minutes, would produce a burden of 26.25 hours (5 faculty/staff members × 3 schools × 7 surveys × 15 minutes). The maximum annual reporting burden for the child pedestrian curriculum evaluation would be 315 hours for student assessments, 180 hours for parent surveys, and 26.25 hours for faculty/staff surveys for a grand total of 521.25 hours.

Information collection would occur during a single school year. Therefore, the average annual burden would be the entire 521.25 hours. The respondents would not incur any reporting cost from the information collection. The respondents also would not incur any record keeping burden or record keeping cost from the information collection.

Authority: 44 U.S.C. Section 3506(c)(2)(A).

Issued on: August 30, 2013.
Jeff Michael,
Associate Administrator, Research and Program Development.

[FR Doc. 2013-21553 Filed 9-4-13; 8:45 am]

BILLING CODE 4910-59-P